OFFICE OF THE UNITED STATES TRADE REPRESENTATIVE

Notice of Product Exclusion Extensions: China's Acts, Policies, and Practices Related to Technology Transfer, Intellectual Property, and Innovation

AGENCY: Office of the United States Trade Representative (USTR).

ACTION: Notice.

SUMMARY: In prior notices, the U.S. Trade Representative modified the action in the Section 301 investigation of China's acts, policies, and practices related to technology transfer, intellectual property, and innovation by excluding from additional duties certain medical-care products needed to address the COVID-19 pandemic. These exclusions are scheduled to expire on September 30, 2021. On August 27, 2021, USTR requested comments on whether to extend these exclusions for up to six months. This notice announces the U.S. Trade Representative's determination to adopt an interim extension of these exclusions for 45 days in order to provide time to review the public comments.

DATES: The extensions announced in this notice will extend the product exclusions through November 14, 2021.

FOR FURTHER INFORMATION CONTACT: For general questions about this notice, contact Associate General Counsel Philip Butler or Assistant General Counsel David Salkeld at (202) 395-5725. For specific questions on customs classification or implementation of the product exclusions, contact traderemedy@cbp.dhs.gov.

SUPPLEMENTARY INFORMATION:

A. Background

On December 29, 2020, USTR announced the extension of 80 product exclusions on medical-care and/or COVID response products; further modifications in the form of 19 product exclusions, to remove Section 301 duties from additional medical-care and/or COVID response products; and that USTR might consider further extensions and/or modifications as appropriate. See 85 FR 85831 (the December 29 notice). On March 10, 2021, USTR announced the extension of these 99 exclusions until September 30, 2021, and that USTR might consider further extensions and/or modifications as appropriate. 86 FR 13785 (the March 10 notice).

On August 27, 2021, USTR published a Federal Register notice requesting public comments on whether any of these 99 exclusions should be further extended for up to six months. 86 FR 48280 (the August 27 notice). Pursuant to that notice, USTR will collect comments through its comment portal until September 27, 2021.

B. Interim Extension of COVID Exclusions

To provide time for USTR to review the comments it receives in response to the August 27 notice, the U.S. Trade Representative has determined to adopt an interim extension of these exclusions for 45 days. Accordingly, pursuant to sections 301(b), 301(c), and 307(a) of the Trade Act of 1974, as amended, the U.S. Trade Representative has determined to extend the 99 product exclusions described in the December 29 and March 10 notices through November 14, 2021. This change is described in the Annex to this notice. The U.S. Trade Representative's decision to adopt an interim extension considers public comments previously provided, as well as advice of advisory committees and the interagency Section 301 Committee.

As provided in the December 29 and March 10 notices, the exclusions are available for any product that meets the description in the product exclusion. The U.S. Trade Representative may continue to consider further extensions and/or additional modifications as appropriate. U.S. Customs and Border Protection will issue instructions on entry guidance and implementation.

Annex

Effective with respect to goods entered for consumption, or withdrawn from warehouse for consumption, on or after 12:01 a.m. eastern daylight time on October 1, 2021, and before 11:59 p.m. eastern standard time on November 14, 2021, each of the article descriptions of headings 9903.88.62, 9903.88.63, 9903.88.64 and 9903.88.65 of the Harmonized Tariff Schedule of the United States are modified by deleting “September 30, 2021,” and by inserting “November 14, 2021,” in lieu thereof.

Greta Peisch,
General Counsel, Office of the United States Trade Representative.

[FR Doc. 2021-21180 Filed 9-28-21; 8:45 am]

BILLING CODE 3290-F1-P